DEPARTMENT OF THE INTERIOR

Bureau of Land Management

[LLCA 942000 L57000000 BX0000]

Filing of Plats of Survey: California

AGENCY: Bureau of Land Management, Interior.

ACTION: Notice.

SUMMARY: The plats of survey and supplemental plats of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California 95825.

FOR FURTHER INFORMATION CONTACT: Chief, Branch of Geographic Services, Bureau of Land Management, California State Office, 2800 Cottage Way, Room W-1623, Sacramento, California 95825, (916) 978-4310.

SUPPLEMENTARY INFORMATION: These surveys and supplemental plats were executed to meet the administrative needs of various federal agencies; the Bureau of Land Management, Bureau of Indian Affairs, General Services Administration or US Forest Service. The lands surveyed are:

Humboldt Meridian, California

T. 12 N., R. 2 E., dependent resurvey, subdivision and survey accepted January 20, 2012.

Mount Diablo Meridian, California

T. 1 N., R. 16 E., completion survey, corrective dependent resurvey, subdivision, and metes-and-bounds survey accepted August 30, 2011.

T. 14 N., R. 8 W., dependent resurvey and subdivision accepted January 23, 2012.

T. 32 N., R. 5 W., supplemental plat of the SE. ¼ of the SW. ¼ of section 30 accepted January 25, 2012.

San Bernardino Meridian, California

T. 4 S., R. 4 E., supplemental plat of the west ½ of section 14 accepted January 31, 2012.

Authority: 43 U.S.C. chapter 3.

Dated: February 1, 2012.
Lance J. Bishop,
Chief Cadastral Surveyor, California.

[FR Doc. 2012-3112 Filed 2-9-12; 8:45 am]

BILLING CODE 4310-40-P